DEPARTMENT OF TRANSPORTATION

Surface Transportation Board

[STB Finance Docket No. 34453]

Genesee & Wyoming Inc.—Control Exemption—Arkansas, Louisiana & Mississippi Railroad Company and Fordyce & Princeton Railroad Company

AGENCY: Surface Transportation Board, Transportation.

ACTION: Notice of exemption.

SUMMARY: Under 49 U.S.C. 10502, the Board exempts from the prior approval requirements of 49 U.S.C. 11323 et seq. the acquisition by Genesee & Wyoming Inc. (GWI) of control of two Class III rail carriers (Arkansas, Louisiana & Mississippi Railroad Company (AL&M) and Fordyce & Princeton Railroad Company (F&P)) by purchase of all of the stock of each from Georgia Pacific Corporation. GWI is a noncarrier holding company that directly controls Buffalo & Pittsburgh Railroad, Inc., a Class II carrier operating in New York and Pennsylvania. GWI also directly controls 13 Class III carriers (Chattahoochee Industrial Railroad, Corpus Christi Terminal Railroad, Inc., Dansville and Mount Morris Railroad Company, Genesee & Wyoming Railroad Company, Inc., Golden Isles Terminal Railroad, Inc., Illinois & Midland Railroad, Inc., Louisiana & Delta Railroad, Inc., Portland & Western Railroad, Inc., Rochester & Southern Railroad, Inc., Savannah Port Terminal Railroad Inc., South Buffalo Railway Company, Utah Railway Company, and Willamette & Pacific Railroad, Inc.). GWI also indirectly controls 10 additional Class III carriers (Commonwealth Railway, Inc., Talleyrand Terminal Railroad, Inc., St. Lawrence & Atlantic Railroad Company, St. Lawrence & Atlantic Railroad (Quebec) Inc., York Railway Company, Salt Lake City Southern Railroad Company, Allegheny & Eastern Railroad, LLC, Pittsburg & Shawmut Railroad, LLC, Maryland and Pennsylvania Railroad, LLC, and Yorkrail, LLC).

DATES: The exemption will be effective on March 6, 2004. Petitions for stay must be filed by February 20, 2004. Petitions for reconsideration must be filed by March 1, 2004.

ADDRESSES: Send an original and 10 copies of any pleadings referring to STB Finance Docket No. 34453 to: Surface Transportation Board, 1925 K Street, NW., Washington, DC 20423-0001. In addition, send one copy of any pleading to GWI's representative: Troy W. Garris, Weiner Brodsky Sidman Kider PC, 1300 Nineteenth Street, NW., Fifth Floor, Washington, DC 20036-1609.

FOR FURTHER INFORMATION CONTACT: Beryl Gordon, (202) 565-1616. [Assistance for the hearing impaired is available through the Federal Information Relay Service (FIRS) at 1-800-877-8339.]

SUPPLEMENTARY INFORMATION: Additional information is contained in the Board's decision. Copies of the decision may be purchased from: ASAP Document Solutions, Suite 103, 9332 Annapolis Rd., Lanham, MD 20706. E-mail address: asapmd@verizon.net. Telephone: (202) 293-7779. [Assistance for the hearing impaired is available through the Federal Information Relay Service (FIRS) at 1-800-877-8339.]

Board decisions and notices are available on our Web site at www.stb.dot.gov.

Decided: January 29, 2004.
By the Board, Chairman Nober.
Vernon A. Williams,
Secretary.

[FR Doc. 04-2273 Filed 2-4-04; 8:45 am]

BILLING CODE 4915-00-P